DEPARTMENT OF HEALTH AND HUMAN SERVICES

Food and Drug Administration

[Docket No. FDA-2011-N-0780]

Bridging the Idea Development Evaluation Assessment and Long-Term Initiative and Total Product Life Cycle Approaches for Evidence Development for Surgical Medical Devices and Procedures; Public Workshop; Correction

AGENCY: Food and Drug Administration, HHS.

ACTION: Notice of public workshop; correction.

SUMMARY: The Food and Drug Administration (FDA) is correcting a notice that appeared in the Federal Register of Monday, November 7, 2011 (76 FR 68769). The document announced a public workshop entitled “Bridging the Idea Development Evaluation Assessment and Long-Term Initiative and Total Product Life Cycle Approaches for Evidence Development for Surgical Medical Devices and Procedures.” The document was published with an incorrect docket number. This document corrects that error.

FOR FURTHER INFORMATION CONTACT: Joyce Strong, Office of Policy, Food and Drug Administration, 10903 New Hampshire Ave., Bldg. 32, Rm. 3208, Silver Spring, MD 20993-0002, (301) 796-9148.

SUPPLEMENTARY INFORMATION: In FR Doc. 2011-28722, appearing on page 68769, in the Federal Register of Monday, November 7, 2011, the following correction is made:

On page 68769, in the first column, in the Docket No. heading, “[Docket No. FDA 2011-N-0002]” is corrected to read “[Docket No. FDA-2011-N-0780]”.

Dated: November 17, 2011.
Leslie Kux,
Acting Assistant Commissioner for Policy.

[FR Doc. 2011-30145 Filed 11-22-11; 8:45 am]

BILLING CODE 4160-01-P